DEPARTMENT OF HOMELAND SECURITY

Coast Guard

33 CFR Part 165

[Docket No. USCG-2008-1017]

RIN 1625-AA11

Regulated Navigation Areas; Bars Along the Coasts of Oregon and Washington; Correction

Correction

In rule document 2010-4769 beginning on page 10687 in the issue of Tuesday, March 9, 2010, make the following correction:

§165.1325 [Corrected]

1. On page 10688, in §165.1325, in the first column, in paragraph (a)(12) “43°38′35″ N., 24°14′25″W.”should read, “43°38′35″ N., 124°14′25″W.”

[FR Doc. C1-2010-4769 Filed 4-8-10; 8:45 am]

BILLING CODE 1505-01-D